DEPARTMENT OF THE INTERIOR

Bureau of Reclamation

Lake Berryessa Visitor Services Plan, Napa County, CA

AGENCY: Bureau of Reclamation, Interior.

ACTION: Extension of comment period for review of Draft Environmental Impact Statement (DEIS).

SUMMARY: The Bureau of Reclamation is extending the review period for the DEIS to March 22, 2004. The notice of availability of the DEIS and notice of public workshop and notice of public hearings was published in the Federal Register on October 31, 2003 (68 FR 62097). A notice for an additional open house meeting was published in the Federal Register on December 19, 2003 (68 FR 70835). The public review period was originally to end on February 4, 2004.

DATES: Submit comments on the DEIS on or before March 22, 2004.

ADDRESSES: Send comments on the DEIS to Ms. Janet Sierzputowski, Bureau of Reclamation, 2800 Cottage Way (Attn: MP-140), Sacramento, CA 95825.

FOR FURTHER INFORMATION CONTACT: Mr. Stephen Rodgers at 707-966-2111 x106, fax 707-966-0409, or e-mail: srodgers@mp.usbr.gov. A copy of the Executive Summary, DEIS, and/or the technical appendices may be obtained by calling Ms. Sierzputowski at 916-978-5112. The DEIS is also accessible at www.usbr.gov/mp/berryessa.

SUPPLEMENTARY INFORMATION: Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: January 27, 2004.
Frank Michny,
Regional Environmental Officer, Mid-Pacific Region.

[FR Doc. 04-3201 Filed 2-12-04; 8:45 am]

BILLING CODE 4310-MN-M